DEPARTMENT OF TRANSPORTATION

Federal Transit Administration

[Docket No. FTA-2018-0010]

National Transit Database Reporting Changes and Clarifications

AGENCY: Federal Transit Administration, DOT.

ACTION: Notice; request for comments.

SUMMARY: This notice provides information on proposed changes and clarifications to the National Transit Database (NTD) reporting requirements. All proposed changes and clarifications will be effective for report year 2019 (beginning September 2019).

DATES: Comments are due by June 10, 2019. FTA will consider late comments to the extent practicable.

ADDRESSES: Please identify your submission by Docket Number (FTA-2018-0010) through one of the following methods:

• Federal eRulemaking Portal: Submit electronic comments and other data to http://www.regulations.gov.

• U.S. Mail: Send comments to Docket Management Facility; U.S. Department of Transportation, 1200 New Jersey Avenue SE, West Building Ground Floor, Room W12-140, Washington, DC 20590-0001.

• Hand Delivery or Courier: Take comments to Docket Management Facility, in Room W12-140 of the West Building, Ground Floor, at 1200 New Jersey Avenue SE, Washington, DC, between 9:00 a.m. and 5:00 p.m. E.T., Monday through Friday, except Federal holidays.

• Fax: Fax comments to Docket Management Facility, U.S. Department of Transportation, at (202) 493-2251.

Instructions: You must include the agency name (Federal Transit Administration) and Docket Number (FTA-2018-0010) for this notice, at the beginning of your comments. If sent by mail, submit two copies of your comments. You may review U.S. DOT's complete Privacy Act Statement published in the Federal Register on April 11, 2000, at 65 FR 19477-8 or http://DocketsInfo.dot.gov.

Electronic Access and Filing: This document and all comments received may be viewed online through the Federal rulemaking portal at http://www.regulations.gov or at the street address listed above. Electronic submission and retrieval help and guidelines are available on the website. It is available 24 hours each day, 365 days a year. Please follow the instructions. An electronic copy of this document may also be downloaded from the Office of the Federal Register's home page at https://www.federalregister.gov.

FOR FURTHER INFORMATION CONTACT: Maggie Schilling, National Transit Database Program Manager, FTA Office of Budget and Policy, (202) 366-2054 or maggie.schilling@dot.gov.

SUPPLEMENTARY INFORMATION:

Table of Contents

A. Background and Overview

B. Additional Types of Service

a. New Type of Service Classification for Demand Responsive Service Provided by Transportation Network Companies

b. New Type of Service To Distinguish Demand Response Taxi Service

C. Changes to the A-30 Revenue Vehicle Asset forms

a. Add New Data Element To Identify Automated Vehicles

b. New Reporting on Safety Equipment on Rail Transit Vehicles

D. Changes to the A-20—Adjust the Reporting Categories for Special Track Work

E. Changes to the D-10—New Reporting on the Use of Automatic Passenger Counters

F. Changes to the FFA-10—New Reporting on Vehicle Revenue Miles by State for Urbanized Area Reporters

G. Changes to Safety Event Reporting

a. Clarification of Reportable Suicide Attempts

b. Modify Data Collection on Vehicles Involved in Reportable Safety Events

c. Add information on Drug and Alcohol Post-Accident Testing

H. Clarification on Reporting Service Information on a Temporary Bus Bridge

I. Clarification of Incidental Use for Transit Asset Reporting

J. Allow Separate Mode Reporting for Geographically and Resource Separated Modes

K. Clarification on Commuter Service Survey Standards

L. Clarification on Reporting Linear Miles and Track Miles to the Asset Inventory

M. Clarification of Rural Financial Data Reporting Requirement.

A. Background and Overview

The National Transit Database (NTD) was established by Congress to be the Nation's primary source for information and statistics on the transit systems of the United States. Recipients and beneficiaries of Federal Transit Administration (FTA) grants under either the Urbanized Area Formula Program (49 U.S.C. 5307) or Rural Area Formula Program (49 U.S.C. 5311) are required by law to report to the NTD.

Based on feedback from NTD stakeholders and the transit industry, FTA is proposing to make a number of reporting changes and clarifications to NTD reporting requirements. FTA seeks comment on the proposed changes and clarifications described below. Anticipated industry burden estimates and proposed implementation timelines are included in the discussion of each item.

B. Additional Types of Service

The NTD currently collects financial and service information by mode (e.g., heavy rail, light rail, motorbus, commuter bus, etc.) and type of service (purchased transportation and directly operated transportation). Reporters must report separate service and financial information for each mode and type of service they operate. There are two types of service reported to the NTD: Directly operated (DO) and purchased transportation (PT). FTA is proposing the addition of two new types of service described below: Taxi (TX) and transportation network company (TN).

FTA proposes implementing these new types of service for the 2019 report year.

a. New Type of Service for Reportable Taxi Service

49 U.S.C. 5302 states that public transportation must be “regular, continuing shared-ride surface transportation services that are open to the general public . . .”. FTA uses this definition to consider whether service is eligible to be reported to the NTD for inclusion in the data sets used by FTA to apportion formula grants.

Under this definition, taxi service is not considered public transportation; however, some agencies may contract with a taxi company to provide overflow capacity for their demand response service. In these arrangements, the request for the ride is dispatched through the agency's demand response service and the taxi company simply provides the vehicle for the demand response ride(s). These trips are reported to the NTD using the Demand Response Taxi (DT) mode.

FTA is proposing to eliminate the Demand Response Taxi (DT) mode and replace it with a type of service designation. Agencies would report current Demand Response Taxi (DT) rides as Demand Response (DR) rides with the type of service designation of Taxi (TX) defined as follows: The Taxi type of service is demand response transportation service provided by a private taxi company on behalf of a public transportation agency using a non-dedicated fleet. Services are directly dispatched by the agency and provided using the taxi company's drivers and vehicles.

Although this represents a change to the way the data would be captured in the system, it does not impact the reporting burden. Data that is reported to the NTD as “Demand Response Taxi—Purchased Transportation” would simply be relabeled as “Demand Response—Taxi,” with no change to the reporting requirements. FTA believes that this change will more precisely reflect that trips provided by this service are still demand response trips coordinated through a transit agency's dispatch system, but delivered by a taxi company.

b. New Type of Service for Demand Responsive Service Provided by Transportation Network Companies

A growing number of transit agencies are establishing formal arrangements with transportation network companies (TNCs) to support first mile/last mile and/or demand responsive services to their riders. Reporters have asked for clarification on how to report these services to meet their NTD reporting obligations and to include data from these services in the annual apportionment of formula funds. In addition, industry stakeholders have expressed a desire to use NTD data to identify these types of arrangements. In response to these needs, FTA is proposing the addition of a new type of service that would identify eligible public transportation provided by TNCs.

In assessing the best way to collect this information for both reporters and stakeholders, FTA considered two options: (1) The creation of a new mode of service, or (2) the creation of a new type of service for public transportation provided by TNCs. The burden for reporters would be identical in both cases. The creation of a new mode or type of service would require agencies reporting on public transportation provided by TNCs to separate the financial and operating information for these services from their other modes or types of service for NTD reporting.

While both approaches would allow agencies to report their services separately and provide transparency to stakeholders, FTA proposes to distinguish these services by type of service rather than mode because of the reporting flexibility provided by this option. While many of the current service agreements between transit agencies and TNCs are similar in nature to the Demand Response or Demand Response Taxi modes currently collected by the NTD, providing the flexibility for agencies to expand these types of arrangements into other modes of service would be possible by organizing the data by type of service rather than mode.

The FTA proposes a new type of service to collect information on transit provided by TNCs defined as follows: The Transportation Network Company (TN) type of service is for demand response transportation service provided by a transportation network company on behalf of a public transportation agency using a non-dedicated fleet. Services are open to the general public and are dispatched by the transportation network company using a mobile application. The FTA notes that several partnerships between TNCs and transit systems are currently funded as pilot programs through the Mobility on Demand Sandbox Program. As pilot programs are not “regular and continuing,” they are not currently reportable to the NTD. The new “TN” type of service, however, will be available for use for any partnership agreements that advance beyond the pilot stage, and which meet the definition of public transportation, including potential pilot projects originally funded through the FTA Mobility on Demand (MOD) Sandbox Program.

C. Changes to the A-30 Revenue Vehicle Asset Forms

a. Add New Data Element To Identify Automated Vehicles

In response to the growth in automated vehicle technology, FTA proposes adding a new data element to the A-30 Revenue Vehicle Inventory form to identify automated or autonomous vehicles. This information would be collected through a check box available by fleet to indicate if the vehicle fleet is comprised of automated vehicles. Agencies operating an automated or autonomous fleet of vehicles, be they rail or roadway vehicles, would check the box to indicate the fleet as such. If the fleet is not automated or autonomous, reporters would leave this box empty.

In addition, FTA proposes the following definition, which aligns with level 4 of the SAE International standard of automation, for inclusion in the NTD glossary to clarify this new requirement: A vehicle that is capable of performing all driving functions without human input under certain conditions.

The FTA estimates that the burden for this additional data element is negligible and proposes implementing this change in report year 2019.

The FTA considered proposing a new mode for either autonomous rail or autonomous roadway shuttle operations, but did not believe that this would benefit NTD stakeholders. The FTA welcomes comments, however, on whether it should reconsider creating a separate mode for autonomous vehicles, rather than simply recording autonomous vehicles on the asset inventory. Currently, autonomous rail vehicles, commonly called “people movers” are classified in the monorail/automated guideway (mode “MG”) mode within the NTD. This mode also includes the Morgantown (West Virginia) personal rapid transit system as well as the Seattle Monorail System, which does not operate autonomously. A transit agency deploying an autonomous train in the future would classify those operations in the relevant mode, e.g. the heavy rail (mode “HR”) mode. Likewise, under current policy, a transit system operating an autonomous roadway vehicle with a fixed route would generally be classified in the existing bus (mode “MB”) mode. The FTA currently proposes to only collect whether autonomous vehicles capable of level 4 operations are in the fleet, and seeks comment on whether it should begin collecting data on the duration of autonomous operations either within the various existing modes, or as one more separate mode.

b. New Reporting on Safety Equipment on Rail Transit Vehicles

The FTA proposes the collection of the following new data elements on the A-30 Revenue Vehicle Inventory form for rail transit vehicle types, unless otherwise specified below:

A. Number of fleet vehicles with event data recorders based on IEEE 1482.1 standard;

B. Number of fleet vehicles with emergency Lighting System Design based on APTA RT-S-VIM-20-10 standard;

C. Number of fleet vehicles with emergency signage based on APTA RT-S-VIM-021-10 standard;

D. Number of fleet vehicles with low-location Emergency Path Marking based on APTA RT-S-VIM-022-10 standard.

These safety equipment standards are identified for inclusion in the National Safety Program Plan requirements of the MAP-21 and FAST Act legislation. As such, they are also included in FTA's National Safety Plan. These standards also address National Transportation Safety Board (NTSB) open recommendations to FTA. The FTA would use this additional data to assess industry risk levels and to inform accident investigations.

This new reporting would apply to all rail transit vehicle types. The FTA currently recognizes 11 rail transit vehicle types: Automated guideway vehicle (AG); cable car (CC); heavy rail passenger car (HR); light rail vehicle (LR); inclined plane vehicle (IP); monorail/automated guideway (MO); commuter rail locomotive (RL); commuter rail passenger coach (RP); commuter rail, self-propelled passenger car (RS); streetcar (SR) and, vintage trolley (VT).

The FTA estimates that the burden to report this information is minimal, as FTA believes that rail fleet maintenance departments already track this information as part of their overall maintenance programs. The FTA welcomes comments on whether reporting these data for rail fleets would in fact be a de minimis burden. The FTA emphasizes that it is not proposing to collect these data for roadway vehicle fleets.

D. Changes to the A-20—Adjust the Reporting Categories for Special Trackwork

In report year 2018, transit agencies must begin reporting expanded asset data to the NTD. The new asset forms were open in the NTD system for optional reporting in report year 2017. Approximately 14% of rail agencies reported their track and guideway assets on a voluntary basis in the optional reporting year.

After completing the optional report year, FTA received several requests from rail agencies to change the special track work categories available on the A-20 form. Agencies felt the current categories did not allow them to properly report their special trackwork to the NTD. In response to these requests, FTA is proposing to remove one category, add three new categories, and rename an existing category.

The A-20 form currently collects the following special track work categories: Half grand union, single turnout, single crossover, and double diamond crossover. The FTA is proposing the following modifications (1) remove half grand union, (2) rename double diamond crossover to double crossover, and (3) include three new special track work categories: Slip switch, lapped turnout, and rail crossing.

Proposed definitions and illustrations of the proposed category changes can be viewed on the NTD website at https://www.transit.dot.gov/ntd/ntd-asset-inventory-module.

E. Reporting on the Use of Automatic Passenger Counters

The FTA is proposing the inclusion of a new data element on the D-10 CEO Certification form to collect information on the use of Automatic Passenger Counters (APC). The proposed reporting would be yes/no selection inquiring whether agencies currently use APC equipment on their transit fleet. Reporters using APC equipment to report ridership and passenger miles travelled information to the NTD are currently required to certify their equipment with the FTA once every 3 years. The FTA is also proposing a new data field on the D-10 to record the date of the agency's last APC certification approval. This field would be populated by the FTA for record keeping and would not require additional data input from the reporter.

F. New Reporting on Vehicle Revenue Miles by State for Urbanized Area Reporters

The FTA receives frequent requests from policy makers to identify the amount of transit service provided in each state. NTD currently collects the breakdown of vehicle revenue miles (VRM) provided in each state for rural agencies operating across state lines. However, urban reporters that operate in two or more states do not provide the same breakdown. The FTA is proposing an amendment to the FFA-10 that would allow reporters to provide their VRM to allocate their VRM by mode and state on the FFA-10.

G. Changes to Safety Event Reporting

a. Clarification of Reportable Attempted Suicides

The FTA has identified inconsistencies in the way agencies report an attempted suicide to the NTD. To improve data quality, FTA is providing a clarification of a reportable attempted suicide.

Attempted suicides are reported to the NTD as a security event. Current guidance on how to report this information can be found in the 2018 Safety Manual located on the NTD website: www.transit.dot.gov/ntd. However, if an attempted suicide results in an injury requiring immediate medical transport away from the transit property, it is reportable as a major event.

In some cases, an agency is reporting an incident as an attempted suicide when an individual notifies transit personnel that they are having suicidal thoughts and medical personnel are called to assist the individual. The majority of reporters, however, are not reporting this type of incident to the NTD as an attempted suicide. This difference in understanding leads to discrepancies in the data reported to the NTD.

To address these differing interpretations, FTA proposes the following definition of attempted suicide: Self-inflicted harm where death does not occur, but the intention of the person was to cause a fatal outcome. The attempt and intent must be accounted for by a third party in the form of police reports, security personnel reports, or other eyewitness statements.

The FTA further proposes including the following reporting note to the 2019 Safety and Security reporting manual to clarify the proposed definition: If there was no documented suicide attempt and the individual was transported only for a mental health evaluation, the event is to be reported on the Non-Major Monthly Summary report.

b. Modify Data Collection on Vehicles Involved in Reportable Safety Events

The NTD currently captures detailed reports for major safety events—events that meet one or more of FTA's major reporting thresholds. Data collected include information about the impacts of the event (injuries, fatalities, damages), the conditions at the time of the event, and the specifics of the vehicles involved (speed, action, manufacturer).

The NTD also captures detailed asset data for each agency's vehicle fleets through the annual reporting process. These fleet records include details on vehicle length, fuel type, age, manufacturer, and more.

Although both streams of data are available in the NTD, these two data sets (major safety events and vehicle fleets) are not currently linked in the system. This means that a data user cannot identify the vehicle fleet information for a vehicle involved in a major safety event.

The current data structure limits FTA's and the industry's ability to identify safety concerns, assess risk, and develop and monitor mitigations. To improve the usability of the NTD data, FTA proposes modifying the NTD's safety event forms to require reporters to identify the vehicle fleet information from their annual report through a menu of their active fleets.

FTA anticipates that this change will reduce reporting burden. By linking the existing vehicle inventory to the safety forms, agencies will no longer have to enter redundant information on a vehicle involved in a safety event. They will now be able to select the fleet from a drop-down menu and all data will be autopopulated from their inventory to the safety form. This change would be applicable to all major events involving a revenue vehicle.

c. Add Information on Drug and Alcohol Post-Accident Testing

The NTD does not currently capture information on whether a major incident required drug and alcohol post-accident testing per 49 CFR 655.44—Post-accident testing. It would be useful for both the FTA and/or State Safety Oversight Agencies to track this information at the incident level to support accident investigations and evaluate agency compliance with this requirement.

The FTA proposes including the following questions to all NTD major event reporting: (1) Was FTA Drug and Alcohol Post-Accident Testing required? If agencies answer yes to the first question, they will be prompted to answer the second question: (2) Was FTA Drug and Alcohol Post-Accident Testing completed? Agencies would provide answers to each question via a yes/no check box.

The estimated burden to report this information to the NTD is minimal as agencies already have obligations regarding documenting post-accident testing and providing records to FTA upon request.

H. Clarification on Reporting a Temporary Bus Bridge Service Information

The FTA has received a request to clarify when mode-level service is reportable for a temporary bus bridge. Several agencies have expressed a concern that the cost of tracking the detailed information necessary to report a temporary bus bridge as a new mode to the NTD outweighs the benefits of the potential funds generated through the FTA formula apportionment programs from these temporary services.

The FTA proposes the following clarification: In cases where a temporary bus bridge, using a new mode or type of service, is put into place in response to a capital project or emergency repair, the reporting agency is not required to create a new mode in the NTD reporting system to report service and financial information to NTD. In these cases, the cost of the service should be reported in the appropriate operating cost functions (if due to an emergency situation) or capital costs functions (if due to a capital project).

If grantees would like to receive credit for the service provided by a temporary bus bridge using a new mode in the FTA formula apportionment programs, the grantee may opt to create a new mode in the NTD. Service provided via a bus bridge for a rail mode is not reportable to the NTD under the rail mode. Reporters may not include the vehicle revenue miles, vehicle revenue hours, unlinked passenger trips, and passenger miles from the temporary bus bridge in their reported rail mode. They must create a new mode to report this service to the NTD.

Agencies implementing a temporary bus bridge through an existing mode (i.e., a mode they currently report to the NTD) should report the temporary bus bridge cost and service information to the NTD as part of their existing mode reporting.

I. Clarification of Incidental Use for Transit Asset Reporting

The FTA has begun collecting additional information on transit assets in report year 2018. Current guidance for reporting inventory and condition information on administrative and maintenance facilities states that an agency must report detailed asset and condition information if they have capital replacement responsibility, with an exemption for facilities where the use by transit providers is considered incidental. An example of this type of arrangement would be a city department of transportation that uses a single office or small suite within a large city hall building or a county-owned maintenance facility that services a large number of county maintenance vehicles including a very small number of vehicles used for transit. In these instances, FTA would consider the transit provider's use of the facility to be incidental and would not require reporting of inventory or condition information to the NTD.

NTD reporters have asked for a clarification of the term incidental use for the purposes of reporting. The FTA seeks comment on its proposal to clarify that incidental use applies when 50 percent or less of the facility's physical space is dedicated to the provision of public transportation service.

J. Allow for Separate Mode Reporting for Geographically and Resource Separated Modes

In a few cases, a transit agency may run two geographically and/or resource separated services that share the same mode. For example, an agency might run two light rail systems that are physically located on opposite sides of the state and have a separate vehicle fleet and workforce. Under current NTD reporting guidance, these services would be reported as a single mode if they are run by a single agency. Thus, despite the fact that they are geographically separated and do not share resources, their financial and service data is captured in the NTD in a single mode.

The intent of collecting NTD data by mode and type of service is to provide a clear presentation of the resources necessary to run a single mode of service. The current data structure obscures this presentation for systems that run two geographically and resource separated services. Combining this information in the data set reduces the usability of the data for stakeholders.

The FTA proposes requiring agencies with geographically or resource separated modes of service to report them as two separate modes in the NTD. Under this requirement, agencies would report the financial, service, and asset information separately to the NTD rather than combining the information to report as a single mode. The FTA anticipates that the additional reporting burden of this proposal would be small, as FTA is only aware of one case where two resource-separated services are not already being reported separately. Reporters currently maintain separate internal records for resource-separated services, so this proposal would allow grantees to report to the NTD in a way that more closely matches their internal records.

K. Clarification on Commuter Service Survey Standards

Current FTA policy requires an agency to provide a passenger survey of new commuter service to the NTD to establish that it meets the criteria for reportable commuter rail, bus, or ferry service. The FTA considers service to be commuter service if at least 50 percent of passengers make a return trip on the same day across all service runs for one year. The FTA proposes to update this policy so that the survey must meet the following criteria:

1. The agency must conduct the survey over a 12-month period, to account for seasonal variations in passenger behavior.

2. The agency must include the entire length of each route in the survey, including all times of day, and all days of the year.

3. If sampling by passengers, each passenger for the entire year must be given an equal chance of selection. If sampling by vehicle operations, each vehicle operation for the entire year must be given an equal chance of selection, weighted by the anticipated passenger count on each vehicle. If any other strata are used in the sample design, each strata must meet FTA's requirements.

4. For the purpose of calculating return trips, a passenger making a single round trip in a given day cannot be surveyed twice for inclusion in the final calculation. The calculation establishing whether 50 percent of riders make a same-day round trip must be calculated as: (total unique passengers making same-day return trip)/((total unique passengers making same-day return trip) + (total unique passengers making an overnight trip)).

5. A person may be counted as making a same-day return trip if the person makes one leg of the trip by another means of transportation.

6. The survey must determine that at least 50 percent of passengers on each route make a return trip on the same day, with 95 percent confidence.

7. A qualified statistician must approve the survey methodology, the sample size, and the sampling methodology and certify that the results give the required level of confidence.

If at least 50 percent of all passengers surveyed on a route made a return trip on the same day, or reported their intention to do so, then FTA will permit the agency to report that route to the NTD as a commuter service.

Eligible commuter service is fully attributable to an urbanized area if at least 50 percent of passengers are making a return trip on the same day. If the service does not meet this threshold, it would be considered intercity service. On intercity ferry and rail services that meet the definition of public transportation, all portions of the service located outside the boundaries of the urbanized area would be attributable at a rate of 27 percent per 49 U.S.C. 5336.

L. Clarification on Reporting Linear Miles and Track Miles to the Asset Inventory

The guidance published with the final reporting requirements for guideway infrastructure did not clearly state definitions and reporting requirements for linear miles and track miles. The FTA proposes the following definitions of linear miles and track miles as referenced in the NTD Policy Manual. Linear miles is defined as “the length in miles of the route path of track—regardless of multiple track railways over the same area” and track miles is defined as the “cumulative length in miles of all track—including multiple track railways over the same area. This should represent the total length of all laid track.”

Earlier guidance appeared to imply that agencies must report both linear miles and track miles for guideway infrastructure. The FTA proposes to clarify that agencies may report either linear miles, or track miles, or both for the purposes of asset condition and performance reporting of guideway infrastructure to the NTD.

M. Clarification on Rural Financial Data Reporting Requirement

The updated Uniform System of Accounts (USOA), effective beginning Fiscal Year 2018, states that to report the total costs of delivering each mode of transit service, transit agencies must calculate both direct and shared costs of providing service. Agencies may continue to allocate shared costs based on approved cost allocation methods. This is consistent with Generally Accepted Accounting Principles.

The FTA clarifies that recipients of Rural Area Formula Program (49 U.S.C. 5311) funding must report operating expenses and fare revenues by mode and type of service. State DOT recipients must report this data for each Section 5311 subrecipient beginning in Fiscal Year 2019.

Issued in Washington, DC.
K. Jane Williams,
Acting Administrator.

[FR Doc. 2019-06943 Filed 4-8-19; 8:45 am]

BILLING CODE 4910-57-P